POSTAL RATE COMMISSION

Facility Tours

AGENCY: Postal Rate Commission.

ACTION: Notice of Commission visit.

SUMMARY: Postal Rate Commissioners and staff members will tour a bulk mail facility in Seattle, Washington, and bypass mail facilities in Anchorage and Fairbanks, Alaska, in mid-August. They also will observe the preparation of mail for delivery from Anchorage, Bethel, and Fairbanks, Alaska. The purpose is to familiarize attendees with postal operations in the Northwest and with the challenges entailed in delivering mail to remote areas in Alaska.

DATES: August 13 through August 18, 2004.

FOR FURTHER INFORMATION CONTACT: Stephen L. Sharfman, General counsel, 202-789-6818.

Dated: July 27, 2004.
Steven W. Williams,
Secretary.

[FR Doc. 04-17400 Filed 7-29-04; 8:45 am]

BILLING CODE 7710-FW-M